DEPARTMENT OF TRANSPORTATION

National Highway Traffic Safety Administration

[Docket No. NHTSA-2007-0020]

Controls, Telltales and Indicators

AGENCY: National Highway Traffic Safety Administration (NHTSA), Department of Transportation (DOT).

ACTION: Notice of draft interpretation; request for comments.

SUMMARY: In past interpretations, NHTSA has taken the position that redundant displays, voluntarily provided by the vehicle manufacturer, need not meet the requirements of FMVSS No. 101 Controls, Telltales, and Indicators, if another display fully meets the standard's requirements. This document sets forth a draft interpretation addressing whether this principle should apply to redundant telltales “of particular safety significance” placed in “common spaces.” We have tentatively concluded that the principle should not be extended to these telltales.

DATES: Comments must be received on or before January 8, 2008.

ADDRESSES: You may submit comments to the docket number identified in the heading of this document by any of the following methods:

• Federal eRulemaking Portal: Go to http://www.regulations.gov. Follow the online instructions for submitting comments.

• Fax: 1-202-493-2251.

• Mail: Docket Operations, M-30, U.S. Department of Transportation, West Building, Ground Floor, Rm. W12-140, 1200 New Jersey Avenue, SE., Washington, DC 20590.

• Hand Delivery: Docket Operations, M-30, West Building, Ground Floor, Rm. W12-140, 1200 New Jersey Avenue, SE., between 9 a.m. and 5 p.m., Monday through Friday, except Federal holidays.

Instructions: All submissions must include the agency name and docket number. For detailed instructions on submitting comments, see the Submission of Comments heading under the Supplementary Information section of this document.

Note that all comments received will be posted without change to http://www.regulations.gov, including any personal information provided. Please see the Privacy Act heading under Submission of Comments.

Docket: For access to the docket to read background documents or comments received, go to http://www.regulations.gov at any time or to the DOT Docket Operations, West Building, Ground Floor, Room W12-140, 1200 New Jersey Avenue, SE., Washington, DC, between 9 a.m. and 5 p.m., Monday through Friday, except Federal holidays.

FOR FURTHER INFORMATION CONTACT: Ms. Dorothy Nakama, Office of the Chief Counsel, National Highway Traffic Safety Administration, 1200 New Jersey Avenue, SE., Washington, DC 20590, Telephone: (202) 366-2992, Fax: (202) 366-3820.

SUPPLEMENTARY INFORMATION:

I. Background

A. Purpose of a Draft Interpretation

B. Redundant Displays

C. “Telltales of Particular Safety Significance” in a “Common Space”

II. Draft Interpretation

III. Submission of Comments

I. Background

A. Purpose of a Draft Interpretation

One of the functions performed by NHTSA's Chief Counsel is to issue interpretations of the statutes and regulations administered by the agency. These interpretations are typically issued in the form of a letter responding to a request for interpretation from a manufacturer or other interested entity. Our interpretations have always been placed in public viewing files and, more recently, have been available to the public on the NHTSA Web site.

We believe that, in certain cases, and including those potentially affecting parties who may have relied on previous interpretations, it is beneficial to publish new interpretations in draft form in the Federal Register to provide an opportunity for public comment before deciding whether to make them final. This will help ensure that we have considered all relevant issues and viewpoints prior to adopting and publishing a final interpretation.

B. Redundant Displays

Federal Motor Vehicle Safety Standard No. 101, Controls, Telltales and Indicators, specifies performance requirements for location, identification, color, and illumination of motor vehicle controls, telltales and indicators. The purpose of FMVSS No. 101 (at S2.) is to:

* * * ensure the accessibility, visibility and recognition of motor vehicle controls, telltales, and indicators, and to facilitate the proper selection of controls under daylight and nighttime conditions, in order to reduce the safety hazards caused by the diversion of the driver's attention from the driving task, and by mistakes in selecting controls.

FMVSS No. 101 does not itself require that any particular controls, telltales or indicators be furnished, although several of the controls, telltales or indicators regulated by the standard are required by other safety standards. The standard instead provides that if certain controls, telltales or indicators are furnished, they must meet the requirements of the standard. In general, controls, telltales or indicators not listed in the standard are not subject to its requirements.

In past interpretations of FMVSS No. 101, NHTSA has taken the position that redundant, voluntarily provided displays need not meet the requirements of FMVSS No. 101, if another display fully meets the standard's requirements. This principle is expressed in letters such as an April 13, 1988 letter to Mr. Robert A. Rogers of General Motors Corporation (GM). In writing to NHTSA, GM noted that S5.3.4(b) (as stated back in 1988) of FMVSS No. 101 stated in part that “that telltales and identification for brakes, highbeams, turn signals, and safety belts may not be adjustable under any driving condition to a level that is invisible.” GM sought NHTSA's concurrence that variable illumination intensity, including levels at which the displays would not be visible, was permissible for the redundant (but not the other) turn signal and highbeam telltales.

NHTSA's response to GM stated in part:

Your letter raises the issue of how the requirements of Standard No. 101 apply to redundant displays. It is our opinion that where a manufacturer provides more than one of a particular display listed in Standard No. 101, e.g., two speedometers, the requirements of the standard for that listed display are met if one of the displays complies with the standard's requirements. The standard's purposes of ensuring the accessibility and visibility of a particular display are fully satisfied by the complying display. Thus, the requirements need not be met again for a redundant display. * * *

C. “Telltales of Particular Safety Significance” in a “Common Space”

For many years, FVMSS No. 101 specified that a common space may be used to display messages from any source, subject to several requirements. One of the requirements was that the telltales for the brake, high beam, turn signal, and safety belt (“telltales of particular safety significance”) may not be shown in the common space. This requirement ensured that these “telltales of particular safety significance” are always visible to the driver.

In a September 23, 2003 (68 FR 55217) notice of proposed rulemaking to update FMVSS No. 101, we proposed, among other matters, to permit “telltales of particular safety significance” to be in a common space, but with the restriction that such telltales could not share a common space with other specified “telltales of particular safety significance” that were listed. We further proposed that if one of these “telltales of particular safety significance” is activated, it would be required to displace any other symbol or message in that common space while the underlying condition that caused the telltale's activation exists.

We did not receive any public comments on the proposed changes to the common space for displaying multiple messages, especially regarding “telltales of particular safety significance.” Therefore, in a final rule of August 17, 2005 (70 FR 48305), we stated that we were adding to S5.5, specified “telltales of particular safety significance” that were proposed in the NPRM. We noted that: “The changes adopted in this final rule continue to ensure that these telltales of particular safety significance, if activated, will always be visible to the driver, but give vehicle manufacturers increased flexibility in instrument panel design.”

In a subsequent final rule in response to petitions for reconsideration published on May 15, 2006 (71 FR 27964), we amended S5.5.2 to read:

S5.5.2 The telltales for any brake system malfunction required by Table 1 to be red, air bag malfunction, low tire pressure, passenger air bag off, high beam, turn signal, and seat belt must not be shown in the same common space.

II. Draft Interpretation

In a request for an interpretation, Suzuki asked about the requirements of the August 17, 2005 final rule amending FMVSS No. 101, and specifically those of S5.5, Common space for displaying multiple messages. That company cited a possible design where there is a telltale “provided in the instrument cluster” that meets all applicable FMVSS No. 101 requirements. As a specific example, it cited the low tire pressure telltale, described in the August 2005 final rule as a telltale “of particular safety significance.” (See 70 FR 48300). Suzuki asked two questions regarding a “redundant” telltale (using the low tire pressure telltale as an example) provided in a common space for displaying multiple messages.

Suzuki's first question was whether a redundant telltale “of particular safety significance” provided in the common space must meet the color requirements in Table 1 of FMVSS No. 101. It stated its view that since the telltale in the common space is voluntary and not provided to meet FMVSS No. 101, the color requirement would not apply.

That company's second question was whether the requirement in S5.5.5 that the telltale provided in the common space must displace any other symbol or message in the common space while the underlying condition for the telltale's activation exists applies. It stated its view that since the telltale in the instrument cluster (i.e., the telltale that meets all applicable FMVSS No. 101 requirements) would be illuminated for as long as the underlying condition exists, it is not necessary for the telltale provided in the common space to displace other symbols or messages.

Suzuki's request for interpretation raises the issue of whether the principle that redundant displays voluntarily provided by the vehicle manufacturer need not meet all of the requirements of FMVSS No. 101 Controls, Telltales, and Indicators, should apply to redundant telltales “of particular safety significance” placed in “common spaces.” As discussed below, we have tentatively concluded that this principle should not be extended to that situation.

As indicated by our 1988 letter to GM, the agency has followed the principle at issue based on the premise that where a manufacturer provides more than one of a particular display listed in FMVSS No. 101, the standard's purposes of ensuring the accessibility and visibility of that type of display are fully satisfied if one of the displays meets the requirements of the standard.

However, in developing both the previous and revised requirements related to telltales in common spaces, NHTSA had special concern about ensuring the effectiveness of telltales of particular safety significance in common spaces. Given the special requirements that were developed to address that concern, we have tentatively concluded that this principle should not be extended to telltales of particular safety significance in common spaces. Even if such telltales are viewed as redundant, drivers may come to rely on these telltales. Failure of the telltale to meet the specified color requirements or to displace another message could reduce the safety of the vehicle.

Accordingly, it is our tentative conclusion that the telltales of particular safety significance listed in S5.5 ¹ and provided in a common space must meet the full requirements of FMVSS No. 101 regardless of whether a separate telltale is also provided.

¹ See S5.5.2, S5.5.5, and S5.5.6(b).

As indicated above, Suzuki's first question was whether a redundant telltale “of particular safety significance” provided in the common space must meet the color requirements in Table 1 of FMVSS No. 101. For the reasons discussed above, our tentative answer is yes.

That company's second question was whether the requirement in S5.5.5 that the telltale provided in the common space must displace any other symbol or message in the common space while the underlying condition for the telltale's activation exists applies. For reasons discussed above, our tentative answer is yes.

III. Submission of Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit your comments by any of the following methods:

• Federal eRulemaking Portal: go to http://www.regulations.gov. Follow the online instructions for submitting comments.

• Mail: Docket Management Facility, M-30, U.S. Department of Transportation, West Building, Ground Floor, Rm. W12-140, 1200 New Jersey Avenue, SE., Washington, DC 20590.

• Hand Delivery or Courier: West Building Ground Floor, Room W12-140, 1200 New Jersey Avenue, SE., between 9 a.m. and 5 p.m. Eastern Time, Monday through Friday, except Federal holidays.

• Fax: (202) 493-2251.

How Can I Be Sure That My Comments Were Received?

If you submit your comments by mail and wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. When you send a comment containing information claimed to be confidential business information, you should include a cover letter setting forth the information specified in our confidential business information regulation.²

² See 49 CFR § 512.

In addition, you should submit a copy, from which you have deleted the claimed confidential business information, to the Docket by one of the methods set forth above.

Will the Agency Consider Late Comments?

We will consider all comments received before the close of business on the comment closing date indicated above under DATES. To the extent possible, we will also consider comments received after that date.

How Can I Read the Comments Submitted by Other People?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://docketsinfo.dot.gov/.

Issued on: October 26, 2007.
Anthony M. Cooke,
Chief Counsel.

[FR Doc. E7-21431 Filed 11-8-07; 8:45 am]

BILLING CODE 4910-59-P